DEPARTMENT OF DEFENSE

Defense Acquisition Regulations System

48 CFR Parts 213 and 218

[Docket DARS-2016-0023]

Defense Federal Acquisition Regulation Supplement; Technical Amendment

AGENCY: Defense Acquisition Regulations System, Department of Defense (DoD).

ACTION: Final rule.

SUMMARY: DoD is making a technical amendment to the Defense Federal Acquisition Regulation Supplement (DFARS) to provide needed editorial changes.

DATES: Effective August 11, 2016.

FOR FURTHER INFORMATION CONTACT: Ms. Jennifer L. Hawes, Defense Acquisition Regulations System, OUSD (AT&L) DPAP (DARS), Room 3B941, 3060 Defense Pentagon, Washington, DC 20301-3060. Telephone 571-372-6115; facsimile 571-372-6094.

SUPPLEMENTARY INFORMATION: This final rule amends DFARS 213.201(g) to add a reference to guidance available in DFARS Procedures, Guidance, and Information on the use of the higher micro-purchase thresholds prescribed in FAR 13.201(g) to support a declared contingency operation or to facilitate defense against or recovery from nuclear, biological, chemical, or radiological attack. A reference to DFARS 213.201 is also added at DFARS 218.201.

List of Subjects in 48 CFR Parts 213 and 218

Government procurement.

Jennifer L. Hawes,
Editor, Defense Acquisition Regulations System.

Therefore, 48 CFR parts 213 and 218 are amended as follows:

PART 213—SIMPLIFIED ACQUISITION PROCEDURES

1. The authority citation for 48 CFR part 213 continues to read as follows:

Authority: 41 U.S.C. 1303 and 48 CFR chapter 1.

2. Add section 213.201 to read as follows:

213.201 General.

(g) See PGI 213.201(g) for guidance on use of the higher micro-purchase thresholds prescribed in FAR 13.201(g) to support a declared contingency operation or to facilitate defense against or recovery from nuclear, biological, chemical, or radiological attack.

PART 218—EMERGENCY ACQUISITIONS

3. The authority citation for 48 CFR part 218 is revised to read as follows:

Authority: 41 U.S.C. 1303 and 48 CFR chapter 1.

218.201 [Amended]

4. Amend section 218.201 by, in paragraph (3), removing “See 213.270(c)(3)” and adding “See 213.201(g) and 213.270(c)(3)” in its place.

[FR Doc. 2016-18705 Filed 8-10-16; 8:45 am]

BILLING CODE 5001-06-P